DEPARTMENT OF THE INTERIOR

Bureau of Land Management

[NV-050-1430-ER; N-79203]

Notice of Intent To Prepare an Environmental Impact Statement (EIS) for the Virgin and Muddy Rivers Surface Water Development Project

AGENCY: Bureau of Land Management, Interior.

Cooperating Agency: Cooperating agencies will be identified in the notice of availability when published.

ACTION: Notice of intent.

SUMMARY: Pursuant to section 102(2)(C) of the National Environmental Policy Act of 1969, the Bureau of Land Management (BLM), Las Vegas Field Office, will be directing the preparation of an EIS for the Virgin and Muddy Rivers Surface Water Development pipeline and associated facilities and initiate the public scoping process.

DATES: The scoping comment period will commence on April 11, 2005, and will end on June 10, 2005. Comments on the scope of the EIS, including concerns, issues, or proposed alternatives that should be considered should be submitted in writing to the address below, and will be accepted throughout the scoping period. This scoping notice will be distributed by mail on or about the date of this notice. All scoping meetings will be announced 15 days in advance through the local news media, newsletters, and the BLM Web site at http://nv.blm.gov.

ADDRESSES: Please mail written comments to the BLM, Las Vegas Field Office, 4701 N. Torrey Pines Drive, Las Vegas, Nevada 89130-2301, (fax (702) 515-5023). Comments submitted, including names and street addresses of respondents, will be available for public review at the Las Vegas Field Office during regular business hours from 7:30 a.m. to 4:15 p.m., Monday through Friday, except holidays. Individual respondents may request confidentiality. If you wish to withhold your name and address from public review or disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: For further information or to have your name added to the EIS mailing list, contact Michael N. Johnson at the Las Vegas Field Office (see address above), telephone (702) 515-5117; e-mail Michael_Johnson@nv.blm.gov.

SUPPLEMENTARY INFORMATION: The Virgin and Muddy Rivers Surface Water Development Project is proposed by the Southern Nevada Water Authority (SNWA), and would be located in northeastern Clark County, Nevada. The proposed project would develop and convey existing surface water rights owned by the Southern Nevada Water Authority (SNWA) from the Virgin and Muddy Rivers to the Las Vegas Valley. SNWA holds permits for an average annual diversion of 113,000 acre-feet per year from the Virgin River, with a permitted point of diversion at Halfway Wash and a diversion period of October through May of each year. SNWA also owns and continues to purchase shares of the Muddy Valley Irrigation Company, which equate to permitted rights on the Muddy River.

The proposed facilities include a diversion structure on the Virgin River near the confluence with Halfway Wash, radial wells in the Virgin River channel, a storage reservoir in Halfway Wash, approximately 60 miles of water conveyance pipelines, pumping stations, water treatment facility, brine evaporation ponds, overhead power lines, and other appurtenances. The facilities would be generally located within and/or across the following public lands:

Diversion Structure/Radial Wells—Townships 14 and 15 South, Range 69 East, various sections;

Halfway Wash Reservoir—Township 14 South, Ranges 68 and 69 East, various sections;

Pipelines—Townships 14-19 South, Ranges 62-70 East, various sections;

Pumping Stations—Townships 13-15 South, Ranges 67-69 and 71, various sections;

Water Treatment/Evaporation Ponds—Township 17 South, Ranges 63 and 64 East, various sections;

Power Lines—Townships 14 and15 South, Ranges 67-69 East, various sections.

A map of the proposed project is available for viewing at the Bureau of Land Management, Las Vegas Field Office, 4701 N. Torrey Pines Drive, Las Vegas, NV 89130-2301.

Dated: March 1, 2005.
Angie Lara,
Acting Las Vegas Field Manager.

[FR Doc. 05-7118 Filed 4-8-05; 8:45 am]

BILLING CODE 4310-HC-P